DEPARTMENT OF COMMERCE

International Trade Administration

[A-570-162, A-201-862, A-337-808]

Certain Glass Wine Bottles From Chile, the People's Republic of China, and Mexico: Postponement of Preliminary Determinations in the Less-Than-Fair-Value Investigations

AGENCY: Enforcement and Compliance, International Trade Administration, Department of Commerce.

DATES: Applicable May 15, 2024.

FOR FURTHER INFORMATION CONTACT: Joshua Weiner (Chile), Carolyn Adie (the People's Republic of China (China)), and Elizabeth Bremer (Mexico), AD/CVD Operations, Offices I, VI, and IV, Enforcement and Compliance, International Trade Administration, U.S. Department of Commerce, 1401 Constitution Avenue NW, Washington, DC 20230; telephone: (202) 482-3902, (202) 482-3150 and (202) 482- 4987, respectively.

SUPPLEMENTARY INFORMATION:

Background

On January 18, 2024, the U.S. Department of Commerce (Commerce) initiated less than fair value (LTFV) investigations of imports of glass wine bottles from Chile, China, and Mexico.¹ Currently, the preliminary determinations are due no later than June 6, 2024.

¹ See Glass Wine Bottles from Chile, the People's Republic of China, and Mexico: Initiation of Less-Than-Fair-Value Investigations, 89 FR 4911 (January 25, 2024).

Postponement of Preliminary Determination

Section 733(b)(1)(A) of the Tariff Act of 1930, as amended (the Act) requires Commerce to issue the preliminary determination in an LTFV investigation within 140 days of the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On May 3, 2024, the petitioner ² submitted a timely request that Commerce postpone the preliminary determinations in these LTFV investigations.³ The petitioner stated that it requests postponement due to concerns that the questionnaire responses submitted by the mandatory respondents contain material deficiencies that prevent an accurate calculation of the antidumping duty margins. Therefore, Commerce needs more time to issue supplemental questionnaires to address issues in the respondents' questionnaire responses.⁴

² The petitioner is the U.S. Glass Producers Coalition, comprised of: Ardagh Glass Inc. (Ardagh) and the United Steel, Paper and Forestry, Rubber, Manufacturing, Energy, Allied Industrial and Service Workers International Union (USW) (collectively, petitioner).

³ See Petitioner's Letters, “Request for Postponement of the Preliminary Determination,” dated May 3, 2024.

⁴ Id.

For the reason stated above, and because there are no compelling reasons to deny the request, Commerce, in accordance with section 733(c)(1)(A) of the Act and 19 CFR 351.205(e), is postponing the deadline for these preliminary determinations by 50 days (i.e., 190 days after the date on which these investigations were initiated). As a result, Commerce will issue its preliminary determinations no later than July 26, 2024. In accordance with section 735(a)(1) of the Act and 19 CFR 351.210(b)(1), the deadline for the final determinations in these investigations will continue to be 75 days after the date of the preliminary determinations, unless postponed at a later date.

Notification to Interested Parties

This notice is issued and published pursuant to section 733(c)(2) of the Act and 19 CFR 351.205(f)(1).

Dated: May 8, 2024.
Ryan Majerus,
Deputy Assistant Secretary for Policy and Negotiations, performing the non-exclusive functions and duties of the Assistant Secretary for Enforcement and Compliance.

[FR Doc. 2024-10566 Filed 5-14-24; 8:45 am]

BILLING CODE 3510-DS-P